DEPARTMENT OF COMMERCE

International Trade Administration

[A-570-848]

Freshwater Crawfish Tail Meat From the People's Republic of China: Final Results of Antidumping Duty Administrative Review and Rescission of New Shipper Review; 2015-2016

AGENCY: Enforcement and Compliance, International Trade Administration, Department of Commerce.

SUMMARY: On June 7, 2017, the Department of Commerce (the Department) published the preliminary results of the administrative review and intent to rescind the new shipper review of the antidumping duty order on freshwater crawfish tail meat from the People's Republic of China (PRC). The period of review (POR) for the administrative review and aligned new shipper review is September 1, 2015, through August 31, 2016. Based on our analysis of the comments received, the Department has made changes to the margin calculations for the final results of the administrative review. The Department continues to find that Jingzhou Tianhe Aquatic Products, Ltd.'s (Jingzhou Tianhe) single sale made to the United States during the POR was not bona fide and, therefore, is rescinding the new shipper review with respect to Jingzhou Tianhe.

DATES: Applicable October 12, 2017.

FOR FURTHER INFORMATION CONTACT: Bryan Hansen or Minoo Hatten, AD/CVD Operations, Office I, Enforcement and Compliance, International Trade Administration, U.S. Department of Commerce, 1401 Constitution Avenue NW., Washington, DC 20230; telephone: (202) 482-3683 or (202) 482-1690, respectively.

SUPPLEMENTARY INFORMATION:

Background

On June 7, 2017, the Department published the preliminary results of the administrative review and intent to rescind the new shipper review of the antidumping duty order on freshwater crawfish tail meat from the People's Republic of China (the PRC) ¹ and invited interested parties to comment. On July 14, 2017, Hubei Nature Agriculture Industry Co., Ltd. (Hubei Nature) timely submitted its case brief in the administrative review and, on July 19, 2017, the Crawfish Processors Alliance ² (the petitioners) timely submitted its rebuttal brief. No party submitted comments concerning the Department's preliminary intent to rescind the new shipper review of Jingzhou Tianhe.

¹ See Freshwater Crawfish Tail Meat from the People's Republic of China: Preliminary Results of Antidumping Duty Administrative Review, Rescission of Review in Part, and Preliminary Intent to Rescind New Shipper Review; 2015-2016, 82 FR 26435 (June 7, 2017), and accompanying Decision Memorandum (Preliminary Decision Memorandum) (collectively, Preliminary Results).

² The Crawfish Processors Alliance consists of the following firms: A&S Crawfish; Acadiana Fishermen's Cooperative; Arnaudville Seafood Plant; Atchafalaya Crawfish Processors; Atchafalaya Crawfish Processing, L.L.C.; Bayou Land Seafood, LLC; Bieber Farms Crawfish, Inc.; Blanchard's Seafood, Inc.; Bonanza Crawfish Farm, Inc.; CJL Enterprise, Inc. d/b/a C.J.'s; Cajun Central, Inc.; Cajun Seafood Distributor, Inc.; Catahoula Crawfish, Inc.; Choplin Seafood; Clearwater Crawfish; Crawfish Enterprises, Inc.; Dugas Seafood aka Carl's Seafood; Toups Crawfish, L.L.C.; Harvestime Seafood; Harvey's Seafood; Louisiana Seafood Co.; Louisiana Premium Seafood; L.T. West, Inc.; Phillips Seafood, L.L.C.; Prairie Cajun Wholesale Distributors; Randol, Inc. aka Randol's Seafood and Restaurant; Riceland Crawfish, Inc. aka Beaucoup Crawfish; Seafood International, Inc.; Sylvester's Crawfish; and Teche Valley Seafood.

We conducted these reviews in accordance with sections 751(a)(1)(B) and 751(a)(2)(B) of the Tariff Act of 1930, as amended (the Act).

Scope of the Order

The merchandise subject to the antidumping duty order is freshwater crawfish tail meat, which is currently classified in the Harmonized Tariff Schedule of the United States (HTSUS) under subheadings 1605.40.10.10, 1605.40.10.90, 0306.19.00.10, and 0306.29.00.00. On February 10, 2012, the Department added HTSUS classification number 0306.29.01.00 to the scope description pursuant to a request by U.S. Customs and Border Protection (CBP). While the HTSUS numbers are provided for convenience and customs purposes, the written description is dispositive. A full description of the scope of the order is contained in the Preliminary Decision Memorandum.³

³ See Memorandum, “Issues and Decision Memorandum for the Final Results of Antidumping Duty Administrative Review and New Shipper Review of Freshwater Crawfish Tail Meat from the People's Republic of China; 2015-2016,” dated concurrently with, and hereby adopted by this notice (Issues and Decision Memorandum).

Rescission of New Shipper Review

As discussed in the Preliminary Decision Memorandum, we preliminarily found that the sale made by Jingzhou Tianhe was not bona fide.⁴ We received no comments concerning this finding. Because the non-bona fide sale at issue was the only sale of subject merchandise that Jingzhou Tianhe made to the United States during the POR, we are rescinding the new shipper review of this company.

⁴ See Preliminary Decision Memorandum at 4 and 5; see also Memorandum, “New Shipper Review of Freshwater Crawfish Tail Meat from the People's Republic of China—Bona Fides Analysis of Jingzhou Tianhe Aquatic Products Co., Ltd.'s Sale,” dated June 1, 2017.

Analysis of Comments Received

All issues raised in the case and rebuttal briefs by parties in these reviews are addressed in the Issues and Decision Memorandum. A list of the issues raised is attached as an Appendix to this notice. The Issues and Decision Memorandum is a public document and is made available to the public via Enforcement and Compliance's Antidumping and Countervailing Duty Centralized Electronic Service System (ACCESS). ACCESS is available to registered users at http://access.trade.gov and is available to all parties in the Central Records Unit, Room B8024 of the main Department of Commerce building. In addition, a complete version of the Issues and Decision Memorandum can be accessed directly on the Enforcement and Compliance Web site at http://enforcement.trade.gov/frn/. A list of the topics discussed in the Issues and Decision Memorandum is attached as an Appendix to this notice.

Changes Since the Preliminary Results

Based on comments received from interested parties and further review of the record, the Department revised its calculation of the surrogate value for non-refrigerated inland freight expenses.⁵ This revision changed the weighted-average dumping margin results for Hubei Nature and, therefore, the rate applied to the non-selected, separate rate company, Xiping Opeck Food Co., Ltd. (Xiping Opeck).

⁵ See Issues and Decision Memorandum at Comment 1.

Separate Rate for a Non-Selected Company

Xiping Opeck is the only exporter of crawfish tail meat from the PRC that demonstrated its eligibility for a separate rate which was not selected for individual examination in this review. As in the Preliminary Results, the Department has calculated a rate for the mandatory respondent Yancheng Hi-King Agriculture Developing Co., Ltd. (Yancheng Hi-King) that is zero and a rate for the mandatory respondent Hubei Nature that is not zero, de minimis, or based entirely on facts available. Therefore, in accordance with section 735(c)(5)(A) of the Act and its prior practice, the Department has assigned Hubei Nature's calculated rate (i.e., 3.81 percent) as the separate rate for the non-examined separate rate exporter, Xiping Opeck, for these final results.⁶

⁶ For more details on our methodology in selecting a rate for a non-examined separate rate exporter, see the “Separate Rates” section of the Issues and Decision Memorandum.

PRC-Wide Entity

As stated in the Preliminary Results, because no party requested a review of the PRC-wide entity in this review, the entity is not under review and the entity's rate is not subject to change (i.e., 223.01 percent).⁷

⁷ See Freshwater Crawfish Tail Meat from the People's Republic of China; Notice of Final Results of Antidumping Duty Administrative Review, 68 FR 19504 (April 21, 2003).

Final Results of the Administrative Review

For the final results of the administrative review, we determine that the following percentage weighted-average dumping margins exist for the period September 1, 2015, through August 31, 2016:

Producer/exporter | Weighted- average margin (percent)
Hubei Nature Agriculture Industry Co., Ltd | 3.81
Xiping Opeck Food Co., Ltd | 3.81
Yancheng Hi-King Agriculture Developing Co., Ltd | 0.00

Assessment Rates

Pursuant to section 751(a)(2)(A) of the Act, and 19 CFR 351.212(b), the Department will determine, and U.S. Customs and Border Protection (CBP) shall assess, antidumping duties on all appropriate entries covered by these reviews. In accordance with 19 CFR 351.212(b)(1), we have calculated importer-specific (or customer-specific) assessment rates for merchandise subject to these reviews.

For these final results, we divided the total dumping margins (calculated as the difference between normal value and export price) for each of the respondents' importers or customers by the total number of kilograms the exporter sold to that importer or customer. We will direct CBP to assess the resulting per-kilogram dollar amount against each kilogram of merchandise in each of that importer's/customer's entries during the review period.

For entries that were not reported in the U.S. sales databases submitted by companies individually examined during the administrative review, the Department will instruct CBP to liquidate such entries at the PRC-wide rate. We intend to issue assessment instructions to CBP 15 days after the date of publication of these final results of review.

Cash Deposit Requirements

The following cash deposit requirements will be effective upon publication of the final results of the administrative review for all shipments of the subject merchandise entered, or withdrawn from warehouse, for consumption on or after the publication date as provided by section 751(a)(2)(C) of the Act: (1) For subject merchandise exported by the companies listed above, the cash deposit rate will be the rate established in the final results of the administrative review for each exporter as listed above, except if the rate is zero or de minimis, then no cash deposit will be required for that exporter; (2) for previously investigated companies not listed above that have separate rates, the cash deposit rate will continue to be the company-specific rate published for the investigation; (3) for all other PRC exporters of subject merchandise which have not been found to be entitled to a separate rate, the cash deposit rate will be the PRC-wide rate of 223.01 percent; and (4) for all non-PRC exporters of subject merchandise which have not received their own rate, the cash deposit rate will be the rate applicable to the PRC entity that supplied that non-PRC exporter.

These deposit requirements, when imposed, shall remain in effect until further notice.

Disclosure

We intend to disclose the calculations performed to parties in this proceeding within five days after public announcement of the final results in accordance with 19 CFR 351.224(b).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a violation subject to sanction.

We are issuing and publishing these final results of administrative and new shipper reviews in accordance with sections 751(a)(1), 751(a)(2)(B)(iii), 751(a)(3), 777(i) of the Act and 19 CFR 351.213(h) and 351.214.

Dated: October 5, 2017.
Gary Taverman,
Deputy Assistant Secretary, for Antidumping and Countervailing Duty Operations, performing the non-exclusive functions and duties of the Assistant Secretary for Enforcement and Compliance.

Appendix

List of Topics Discussed in the Issues and Decision Memorandum:

I. Summary

II. Background

III. Scope of the Order

IV. Surrogate Country

V. Separate Rates

VI. Discussion of the Issues

Comment 1: Calculation of Surrogate Value for Non-Refrigerated Inland Freight Expenses

Comment 2: Selection of Financial Information to Value Factory Overhead, Selling, General & Administrative Expenses, and Profit

VII. Recommendation

[FR Doc. 2017-22071 Filed 10-11-17; 8:45 am]

BILLING CODE 3510-DS-P